Proclamation 10826 of September 30, 2024

National Domestic Violence Awareness and Prevention Month, 2024

By the President of the United States of America

A Proclamation

Domestic violence affects millions of Americans across our Nation with devastating consequences for survivors, families, and entire communities. Everyone deserves to live free from the fear of violence, especially in their own home. During National Domestic Violence Awareness and Prevention Month, we recommit to extending support and resources to all survivors, continuing to hold perpetrators accountable, and ensuring that our society is truly safe for everyone.

Just last month, we celebrated the 30th anniversary of the Violence Against Women Act (VAWA), which I wrote and championed as a United States Senator. It is one of the pieces of legislation of which I am most proud. VAWA established a coordinated, nationwide response to gender-based violence, lifting social and legal burdens off survivors and onto perpetrators, where they belong. It directed critical funding toward increasing resources for survivors, strengthened efforts to prevent and prosecute sexual assault, and funded rape crisis centers and shelters to support survivors. It also created the Nation's first-ever National Domestic Violence Hotline, which has provided millions of Americans with lifesaving support, answering its seven millionth contact this past year.

My Administration recognizes that there is still more work to do. Between 30 and 40 percent of Americans are impacted by sexual abuse, physical violence, or stalking—including online—by an intimate partner throughout their lifetimes. Over the years, I have spoken with countless brave survivors of domestic violence, who have shared the devastating toll this abuse takes on all aspects of their lives. Their stories are also marked by a deep courage and resilience. Above all, they have made clear that even one case of domestic violence is too many and goes against who we are as a Nation.

In 2022, I signed into law the reauthorization of VAWA that included its highest funding level to date, expanding protections to ensure that they reach the most vulnerable communities. These funds will continue to strengthen the public health response for domestic violence survivors and their children, expand access to medical forensic examinations, and increase support for culturally specific resources in marginalized communities. Additionally, Tribal courts now have jurisdiction over non-Native perpetrators of sexual assault, child abuse, stalking, sex trafficking, and assaults on Tribal lands. And we are making sure that VAWA programs are implemented in rural communities across the Nation.

We all have a sacred duty to ensure that no one experiences abuse. That is why my Administration is taking important steps to prevent domestic violence and protect survivors and their families. We released the first-ever National Plan to End Gender-Based Violence, which laid out a Government-wide approach to prevent and address all forms of gender-based violence, including intimate partner violence, sexual violence, and stalking. Knowing that domestic violence and gun violence are deeply interconnected, my Administration established the first-ever White House Office of Gun Violence Prevention, which is overseen by the Vice President, who has spent her career combatting crimes against women and children. And I signed the Bipartisan Safer Communities Act—the most significant gun safety law in decades—which is helping to keep guns out of the hands of domestic abusers and felons. Last year, the Department of Justice's Office on Violence Against Women awarded over $600 million in grants to address gender-based violence, and through the American Rescue Plan, we have directed an additional $1 billion in funding for rape crisis centers, culturally specific community support organizations, and other domestic violence and sexual assault services.

We are also taking action to combat the growing threat of cybercrimes and online harassment. We are increasing access to services and support for survivors of technology-facilitated gender-based violence and ensuring that law enforcement is better equipped to prevent, enforce, and prosecute cybercrimes, including technology abuse by an intimate partner. Furthermore, the Vice President and I worked together to create a Federal task force that helped launch the first 24/7 national helpline for survivors of image-based abuse. We are also directing Federal agencies to address sexual violence and sexual harassment in the workplace and in schools, and I have spearheaded historic military justice reforms to protect survivors of domestic violence, sexual assault, and other forms of gender-based violence in our military.

I remain proud of the progress that has been made in recent decades to combat domestic violence and violence in all forms, but I know that there is more work to be done to ensure that every American is safe. During National Domestic Violence Awareness and Prevention Month and every month, we must lend our unwavering support to survivors and continue to call upon our fellow Americans to treat everyone with dignity and respect. If you or someone you know is in need of support, immediate and confidential help is available 24/7 through the National Domestic Violence Hotline by visiting thehotline.org, calling 1-800-799-7233 (TTY 1-800-787-3224), or texting “START” to 88788.

NOW, THEREFORE, I, JOSEPH R. BIDEN JR., President of the United States of America, by virtue of the authority vested in me by the Constitution and the laws of the United States, do hereby proclaim October 2024 as National Domestic Violence Awareness and Prevention Month. I call upon our country to change the social norms that tolerate domestic violence, provide meaningful support to survivors, and express gratitude to those working diligently on prevention and response efforts. Together, we can transform the country and build a Nation where all people live free from violence.

IN WITNESS WHEREOF, I have hereunto set my hand this thirtieth day of September, in the year of our Lord two thousand twenty-four, and of the Independence of the United States of America the two hundred and forty-ninth.

[FR Doc. 2024-23000

Filed 10-2-24; 8:45 am]

Billing code 3395-F4-P